MERIT SYSTEMS PROTECTION BOARD

5 CFR Part 1201

Practices and Procedures

AGENCY: Merit Systems Protection Board.

ACTION: Final rule.

SUMMARY: The Merit Systems Protection Board (MSPB or the Board) hereby amends its rules of practice and procedure in order to correct a minor drafting error in the Board's regulations.

DATES: Effective April 17, 2015.

FOR FURTHER INFORMATION CONTACT: William D. Spencer, Clerk of the Board, Merit Systems Protection Board, 1615 M Street NW., Washington, DC 20419; phone: (202) 653-7200; fax: (202) 653-7130; or email: mspb@mspb.gov.

SUPPLEMENTARY INFORMATION: On October 12, 2012, the MSPB published a final rule that made numerous amendments to its regulations. 77 FR 62350. In making these amendments, the MSPB inadvertently repeated the language of 5 CFR 1201.183(c)(2) in 5 CFR 1201.183(c)(3). Accordingly, the Board now removes 5 CFR 1201.183(c)(3) as unnecessary and duplicative.

This amendment removing 5 CFR 1201.183(c)(3) corrects a minor drafting error and makes no substantive change to the MSPB's regulations. As a result, the Board finds good cause to forego notice and comment rulemaking and to make this final rule effective upon publication.

List of Subjects in 5 CFR Part 1201

Administrative practice and procedure.

Accordingly, for the reasons set forth in the preamble, the Board amends 5 CFR part 1201 as follows:

PART 1201—PRACTICES AND PROCEDURES

1. The authority citation for 5 CFR part 1201 continues to read as follows:

Authority: 5 U.S.C. 1204, 1305, and 7701, and 38 U.S.C. 4331, unless otherwise noted.

§ 1201.183 [Amended]

2. Amend § 1201.183 by removing paragraph (c)(3).

William D. Spencer,
Clerk of the Board.

[FR Doc. 2015-08880 Filed 4-16-15; 8:45 am]

BILLING CODE 7400-01-P